DEPARTMENT OF TRANSPORTATION

Federal Aviation Administration

Notice of Request To Release Property at Owensboro-Daviess County Regional Airport, Owensboro, KY (OWB)

AGENCY: Federal Aviation Administration (FAA), DOT.

ACTION: Notice.

SUMMARY: The Federal Aviation Administration is requesting public comment on a request by the Owensboro-Daviess County Airport Board, to release land (10.76 acres) at Owensboro—Daviess County Regional Airport (OWB) from federal obligations.

DATES: Comments must be received on or before June 27, 2022.

ADDRESSES: Comments on this notice may be emailed to the FAA at the following email address: FAA/Memphis Airports District Office, Attn: Jillian M. Thackston, Community Planner, Jillian.M.Thackston@faa.gov.

In addition, one copy of any comments submitted to the FAA must be mailed or delivered to Mr. Tristan Durbin, Airport Director, Owensboro-Daviess County Airport Board at the following address: 2200 Airport Drive, Owensboro, KY 42301.

FOR FURTHER INFORMATION CONTACT: Jillian M. Thackston, Community Planner, Federal Aviation Administration, Memphis Airports District Office, 2600, Thousand Oaks Boulevard, Suite 2250, Memphis, TN 38118-2482, (901) 322-8188, or Jillian.M.Thackston@faa.gov. The application may be reviewed in person at this same location, by appointment.

SUPPLEMENTARY INFORMATION: The FAA proposes to rule and invites public comment on the request to release property for disposal at Owensboro-Daviess County Regional Airport, 2200 Airport Drive, Owensboro, KY 42301, under the provisions of 49 U.S.C. 47107(h)(2). The FAA determined that the request to release property at Owensboro-Daviess County Regional Airport (OWB) submitted by the Sponsor meets the procedural requirements of the Federal Aviation Administration and the release of these properties does not and will not impact future aviation needs at the airport. The FAA may approve the request, in whole or in part, no sooner than thirty days after the publication of this notice.

The request consists of the following:

The Property consists of approximately 10.76 acres and is located in the western portion of the Airport. These parcels are labeled on the current Exhibit A as Parcel 20 (7.93 acres), Parcel 21 (1.93 acres), and Parcel 24A (0.90 acres). The Properties are physically located west of Runway 18/36 and east of Calhoun Road.

This request will release this property from federal obligations. This action is taken under the provisions of 49 U.S.C. 47107(h)(2).

Any person may inspect the request in person at the FAA office listed above under FOR FURTHER INFORMATION CONTACT.

In addition, any person may, upon request, inspect the request, notice and other documents germane to the request in person at Owensboro-Daviess County Regional Airport (OWB).

Issued in Memphis, Tennessee on May 24, 2022.
Duane Leland Johnson,
Assistant Manager, Memphis Airports District Office, Southern Region.

[FR Doc. 2022-11436 Filed 5-26-22; 8:45 am]

BILLING CODE 4910-13-P